DEPARTMENT OF ENERGY

Federal Energy Regulatory Commission

[Docket No. CP16-121-000]

National Grid LNG, LLC; Notice of Schedule for Environmental Review of the Fields Point Liquefaction Project

On April 1, 2016, National Grid LNG, LLC (National Grid) filed an application in Docket No. CP16-121-000 requesting a Certificate of Public Convenience and Necessity pursuant to Section 7(c) of the Natural Gas Act to construct and operate certain natural gas pipeline facilities. The proposed project is known as the Fields Point Liquefaction Project (Project), and would involve National Grid constructing a natural gas liquefaction facility at its existing Fields Point liquefied natural gas (LNG) storage facility in Providence, Rhode Island.

On April 15, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—March 30, 2018

90-Day Federal Authorization Decision Deadline—June 28, 2018

If a schedule change becomes necessary, additional notice will be provided so that the relevant agencies are kept informed of the Project's progress.

Project Description

The Project would give National Grid's customers, Narragansett Electric Company (Narragansett) and Boston Gas Company, the ability to deliver gas in vapor form for storage in National Grid's existing storage tank using an existing 12-inch-diameter pipeline owned by Narragansett. The Project would consist of an electric powered booster compressor, pretreatment system, gas regeneration heater, and liquefaction train including heat exchangers cooled by a closed loop nitrogen refrigeration cycle. The Project would not change the capacity of the existing LNG storage tank or facility.

Background

On September 25, 2015, the Commission issued a Notice of Intent to Prepare an Environmental Assessment for the Planned Fields Point Liquefaction Project, Request for Comments on Environmental Issues, and Notice of Public Scoping Meeting (NOI). The NOI was issued during the pre-filing review of the Project in Docket No. PF15-28 and was sent to affected landowners; federal, state, and local government agencies; elected officials; environmental and public interest groups; Native American tribes; local businesses; other interested parties; and local libraries and newspapers.

In response to the NOI, the Commission received comments from 4 Rhode Island State Senators and Representatives, the Rhode Island Natural Resources Conservation Service, Rhode Island Department of Health, Rhode Island Historical Preservation and Heritage Commission, the City of Providence, 4 non-governmental organizations, and 75 individuals. In addition, 18 businesses, individuals, and organizations filed for intervention, some of which also commented on environmental issues. The primary issues raised by the commentors are safety, public health, environmental justice, and climate change.

Existing groundwater contamination has also been identified as a potential issue at National Grid's LNG storage facility site. National Grid has submitted the necessary information to the Rhode Island Department of Environmental Management (RIDEM), and RIDEM has initiated its review of National Grid's Short Term Response Action Plan for the proposed Project in accordance with its Remediation Regulations. As a result, we are prepared to move forward with the environmental review of the proposed Project.

The U.S. Department of Transportation, the Rhode Island Coastal Resources Management Council, and RIDEM are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP16-121), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: September 15, 2017.
Nathaniel J. Davis, Sr.,
Deputy Secretary.

[FR Doc. 2017-20251 Filed 9-21-17; 8:45 am]

BILLING CODE 6717-01-P